DEPARTMENT OF ENERGY

Federal Energy Regulatory Commission

Combined Notice of Filings #1

Take notice that the Commission received the following electric rate filings:

Docket Numbers: ER11-3460-011; ER10-1533-017; ER12-1301-009.

Applicants: Bayonne Energy Center, LLC, Macquarie Energy LLC, Zone J Tolling Co., LLC.

Description: Notice of Non-Material Change in Status of Bayonne Energy Center, LLC, et al.

Filed Date: 5/23/18.

Accession Number: 20180523-5209.

Comments Due: 5 p.m. ET 6/13/18.

Docket Numbers: ER16-120-007.

Applicants: New York Independent System Operator, Inc.

Description: Compliance filing: Compliance with April 2018 Order—RMR Generator Deactivation Process to be effective 7/23/2018.

Filed Date: 5/23/18.

Accession Number: 20180523-5128.

Comments Due: 5 p.m. ET 6/13/18.

Docket Numbers: ER18-1264-002.

Applicants: Westar Energy, Inc.

Description: Tariff Amendment: Amendment to Filing & Renewed Request for Expedited Action to be effective 6/1/2018.

Filed Date: 5/23/18.

Accession Number: 20180523-5175.

Comments Due: 5 p.m. ET 5/29/18.

Docket Numbers: ER18-1674-000.

Applicants: Oklahoma Gas and Electric Company.

Description: Petition for Waiver and Request for Shortened Comment Period and Expedited Action of Oklahoma Gas and Electric Company.

Filed Date: 5/22/18.

Accession Number: 20180522-5301.

Comments Due: 5 p.m. ET 6/1/18.

Docket Numbers: ER18-1679-000.

Applicants: PJM Interconnection, L.L.C.

Description: § 205(d) Rate Filing: Original WMPA SA No. 5094; Queue No. AD1-048 to be effective 5/14/2018.

Filed Date: 5/23/18.

Accession Number: 20180523-5182.

Comments Due: 5 p.m. ET 6/13/18.

Docket Numbers: ER18-1680-000.

Applicants: Southwest Power Pool, Inc.

Description: § 205(d) Rate Filing: 3112R1 WAPA—UGP Marketing Meter Agent Agreement to be effective 5/1/2018.

Filed Date: 5/24/18.

Accession Number: 20180524-5010.

Comments Due: 5 p.m. ET 6/14/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2018.
Nathaniel J. Davis, Sr.,
Deputy Secretary.

[FR Doc. 2018-11683 Filed 5-30-18; 8:45 am]

BILLING CODE 6717-01-P